DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of March 17 through March 21, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

None.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

Insert Cd.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-62,811; CUL-Mac Industries, Formerly Know as Standhardt Chemical Corporation, Grand Rapids, MI: February 6, 2007.

TA-W-62,824; Jewel America, Inc., New York, NY: February 9, 2007.

TA-W-62,920; Lanxess Sybron Chemicals, A Subsidiary of Lanxess Corp., Birmingham, NJ: February 27, 2007.

TA-W-62,508; Brenham Spring, A Subsidiary of Leggett and Platt, Brenham, TX: November 29, 2006.

TA-W-62,518; Chace Leathers, Inc., Fall River, MA: November 28, 2006.

TA-W-62,692; SB Acquisitions d/b/a Saunders Brothers, Greenwood, ME: January 15, 2007.

TA-W-62,770; Diamond Tool and Die Company, Dayton, OH: January 24, 2007.

TA-W-62,792; Erisco Industries, Erie, PA: January 30, 2007.

TA-W-62,804; Hp Pelzer Automotive Systems, A Subsidiary of HP Pelzer Group, Thomson, GA: January 9, 2007.

TA-W-62,873; Alice Manufacturing Co., Inc., Foster Plant, Easley, SC: November 25, 2007.

TA-W-62,684; The New Mayflower Corporation, Formerly Know as Janef, Inc., Old Forge, PA: October 18, 2007.

TA-W-62,951; Best King Fashions, Inc., New York, NY: February 5, 2007.

The following certifications have been issued. The requirements of Section 222(a)(2)(B) (shift in production) and Section 246(a)(3)(A)(ii) of the Trade Act have been met.

TA-W-62,814; Tricon Industries, Inc., Electromechanical Division, Downers Grove, IL: December 23, 2007.

TA-W-62,863; Orient Engine, Falmouth, KY: February 15, 2007.

TA-W-62,867; Vanity Fair Brands, LP, Distribution, Mission, TX: February 5, 2007.

TA-W-62,870; Timken U.S. Corporation, A Wholly Owned Subsidiary of the Timken Co., Clinton, SC: February 20, 2007.

TA-W-62,891; FCI USA, Inc., Electronics Division, Etters, PA: March 18, 2008.

TA-W-62,909; R. E. Phelon (Lomira Division), Leased workers from Seek Careers, Lomira, WI: August 3, 2007.

TA-W-62,918; TT Electronics/IRC, Inc., Boone, NC: February 27, 2007.

TA-W-62,961; Dura Automotive Systems, Inc., Moberly Brake Operations, Moberly, MO: February 27, 2007.

TA-W-62,966; Sanmina-SCI, Inc., Leased workers of Kelly Services, Rapid City, SD: February 27, 2007.

TA-W-62,972; Edwards Vacuum, Inc., Tempe, AZ: March 3, 2007.

TA-W-62,977; Mold Masters Injectioneering, LLC, Apple One, Staffing Assoc., Aristaff, and Aerotek, Spartanburg, SC: March 8, 2007.

TA-W-62,988; A.O. Smith, Electrical Products Division, Scottsville, KY: March 11, 2007.

TA-W-62,994; Essex Group, Inc., A Subsidiary of Superior Essex, Inc, Vincennes, IN: March 4, 2007.

TA-W-63,005; Eagle Ottawa LLC, On-Site Leased Workers From Adecco, Rochester Hills, MI: March 17, 2008.

TA-W-62,837; Pentair Water, Ashland OPA, A Subsidiary of Pentair, Inc., Ashland, OH: January 29, 2007.

TA-W-62,845; Durham Manufacturing Co., Inc., Warehouse and Maintenance Departments, Durham, CT: February 13, 2007.

TA-W-62,861; Brammall Inc, A Subsidiary of Tyden Group. Holdings Corporation, Angola, IN: February 14, 2007.

TA-W-62,998; C.H.P. Industries, Charlotte, NC: March 7, 2007.

The following certifications have been issued. The requirements of Section 222(b) (supplier to a firm whose workers are certified eligible to apply for TAA) and Section 246(a)(3)(A)(ii) of the Trade Act have been met.

TA-W-62,725; Elmet Technologies, Lighting Department, Lewiston, ME: January 22, 2007.

TA-W-62,823; Sandpiper Knitting, Inc., Pageland, SC: February 8, 2007.

TA-W-62,950; Key Plastics LLC, Leased workers from Tempstar Staffing, York, PA: March 3, 2007.

TA-W-62,963; Lexington Precision Corporation, Vienna, OH: March 4, 2007.

TA-W-63,007; Grover Industries, Inc., Grover Division, Grover, NC: October 5, 2007.

TA-W-63,007A; Grover Industries, Inc., Tryon Division, Lynn, NC: October 5, 2007.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

None.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,947; Norcal Pottery Products, Richmond Distribution Center, Richmond, CA.

The investigation revealed that criteria (a)(2)(A)(I.B.) (Sales or production, or both, did not decline) and (a)(2)(B)(II.B.) (shift in production to a foreign country) have not been met.

TA-W-62,686; FitLinxx, Inc., Norwalk, CT.

The investigation revealed that criteria (a)(2)(A)(I.C.) (increased imports) and (a)(2)(B)(II.B.) (shift in production to a foreign country) have not been met.

TA-W-62,613; Longview Fibre Paper and Packaging, Longview Mill, Formerly Longview Fibre Co., Longview, WA.

TA-W-62,712; Emerson Motor Company, dba Hurst Manufacturing, Industrial Motor Division, Princeton, IN.

TA-W-62,783; Kemet Electronics Corporation, Fountain Inn, SC.

TA-W-62,800; Wilkins, Kaiser and Olsen, Inc., Carson, WA.

TA-W-62,875; Bolton Metal Products Company, Bellefonte, PA.

TA-W-62,943; Bekaert Corporation, Steel Cord Division, Rome, GA.

The workers' firm does not produce an article as required for certification under Section 222 of the Trade Act of 1974.

TA-W-62,876; B and P Alloys, Inc., Waukesha, WI.

TA-W-62,927; Chase Homes Finance LLC, A Division of JP Morgan Chase & Co., Lexington, KY.

The investigation revealed that criteria of Section 222(b)(2) has not been met. The workers' firm (or subdivision) is not a supplier to or a downstream producer for a firm whose workers were certified eligible to apply for TAA.

TA-W-62,894; Siemens IT Solutions and Services, Working On-Site at Owens Corning, Toledo, OH.

I hereby certify that the aforementioned determinations were issued during the period of March 17 through March 21, 2008. Copies of these determinations are available for inspection in Room C-5311, U.S. Department of Labor, 200 Constitution Avenue, NW., Washington, DC 20210 during normal business hours or will be mailed to persons who write to the above address.

Dated: May 28, 2008.
Erin Fitzgerald,
Acting Director, Division of Trade Adjustment Assistance.

[FR Doc. E8-8976 Filed 4-23-08; 8:45 am]

BILLING CODE 4510-FN-P